SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before December 27, 2010.

ADDRESSES: Send all comments regarding whether this information collection is necessary for the proper performance of the function of the agency, whether the burden estimates are accurate, and if there are ways to minimize the estimated burden and enhance the quality of the collection, to Edsel Brow, Director, Office of Technology, Small Business Administration, 409 3rd Street, 6th Floor, Washington, DC 20416.

FOR FURTHER INFORMATION CONTACT: George Solomon, Office of Senior Policy, 202-205-7343 edsel.brown@sba.gov Curtis B. Rich, Management Analyst, 202-205-7030 curtis.rich@sba.gov.

SUPPLEMENTARY INFORMATION: This data will be used by SBA to maintain information about the SBIR and STTR awards issued through the two programs. This data will also be used to track performance of the SBIR/STTR programs as a whole and at specific agencies.

Title: “Small Business Innovation Research (SBIR) and Small Business Technology (STTR) Tech-Net Database”.

Description of Respondents: All Firms or Individuals applying for a Phase 1 or Phase II award from the SBIR or STTR program.

Form Number: N/A.

Annual Responses: 30,000.

Annual Burden: 15,000.

Jacqueline White,
Chief, Administrative Information Branch.

[FR Doc. 2010-27271 Filed 10-27-10; 8:45 am]

BILLING CODE 8025-01-P